DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fifty-fifth meeting.

Name: National Advisory Committee on Rural Health and Human Services.

Dates and Times: February 28, 2007, 9 a.m.-4:15 p.m., March 1, 2007, 9 a.m.-4:15 p.m., March 2, 2007, 9 a.m.-10:30 a.m.

Place: The Sofitel Lafayette Square, 806 15th Street NW., Washington, DC 20005, Phone: 202-730-8800.

Status: The meeting will be open to the public.

Purpose: The National Advisory Committee on Rural Health and Human Services provides advice and recommendations to the Secretary with respect to the delivery, research, development and administration of health and human services in rural areas.

Agenda: Wednesday morning, February 28, at 9 a.m., the meeting will be called to order by the Chairperson of the Committee, the Honorable David Beasley. Elizabeth M. Duke, Administrator of the Health Resources and Services Administration, has been invited to give opening remarks. The first presentation is titled Rural America: Then, Now and in the Future. The speakers will be John Cromartie and Carol Jones, Economic Research Service, U.S. Department of Agriculture. Following this session will be three panels on rural health and human services issues. The first will be a rural health panel with Becky Slifkin of the North Carolina Rural Health Research and Policy Analysis Center at the University of North Carolina at Chapel Hill; Gary Hart of the WWAMI Rural Health Research Center at the University of Washington; and Andy Coburn of the Maine Rural Health Research Center at the University of Southern Maine. The second will be a rural health panel with the following speakers: Julie Schoenman of the National Opinion Research Center at the University of Chicago; Michelle Casey of the Upper Midwest Rural Health Research Center at the University of Minnesota; and Keith Mueller of the Rural Policy Research Institute. The final panel of the day will be a rural human services panel with Robert Gibbs of the Economic Research Service at the U.S. Department of Agriculture; Dennis Dudley with the U. S. Administration on Aging; and Brian Dabson of the Poverty Center at the Rural Policy Research Institute. The Wednesday meeting will close at 4:15 p.m.

Thursday morning, March 1, at 9 a.m., the Committee will open with a discussion on Wednesday's sessions. Immediately following, the Committee Chair will lead a discussion of the topics for the 2008 Report to the Secretary and assign Subcommittees. The first presentation of the day will be on Rural Policy Moving Forward by Mike O' Grady, Senior Fellow with the National Opinion Research Center. This will be followed by a presentation on the Commonwealth Fund Activity by Mary Wakefield, Director of the Center for Rural Health at the University of North Dakota. After lunch the Committee will have discussion on the day's presentations. The formal Committee meeting for Thursday will close at 2:30 p.m. The Subcommittees will meet from 2:30 p.m. to 4 p.m.

The final session will be convened Friday morning, March 2, at 9 a.m. The Committee will receive reports from the Subcommittee discussions on Thursday, draft the letter to the Secretary, and discuss the June meeting. The meeting will be adjourned at 10:30 a.m.

For Further Information Contact: Anyone requiring information regarding the Committee should contact Tom Morris, M.P.A., Executive Secretary, National Advisory Committee on Rural Health and Human Services, Health Resources and Services Administration, Parklawn Building, Room 9A-55, 5600 Fishers Lane, Rockville, MD 20857, Telephone (301) 443-0835, Fax (301) 443-2803.

Persons interested in attending any portion of the meeting should contact Michele Pray-Gibson, Office of Rural Health Policy (ORHP), Telephone (301) 443-0835. The Committee meeting agenda will be posted on ORHP's Web site http://www.ruralhealth.hrsa.gov.

Dated: February 2, 2007.
Caroline Lewis,
Acting Associate Administrator for Administration and Financial Management.

[FR Doc. E7-2125 Filed 2-7-07; 8:45 am]

BILLING CODE 4165-15-P